DEPARTMENT OF DEFENSE

Department of the Army

Availability for Non-Exclusive, Exclusive, or Partially Exclusive Licensing of U.S. Patent and Related U.S. Patent Application Concerning Protein Biomarker for Mustard Chemical Injury

AGENCY: Department of the Army, DoD.

ACTION: Notice.

SUMMARY: In accordance with 37 CFR 404.6 and 404.7, announcement is made of the availability for licensing of U.S. Patent No. 6,124,108, entitled “Protein Biomarker for Mustard Chemical Injury,” filed May 13, 1997, and related U.S. Patent Application Serial No. 09/482,604, filed January 14, 2000 and having the same title. The United States Government, as represented by the Secretary of the Army has rights in this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This invention relates to the use of a test to evaluate exposure to mustard gas. This invention relates to the discovery that toxicity to mustard may be evaluated by diagnostic test means disclosed. Upon electrophoretic separation (sodium dodocyl sulfate polyacrylamide gel electrophoresis (SDS-PAGE)) of buffered extract of human skin cells (normal human epidermal keratinocytes (NHEK)) which had been exposed to mustard-type chemical compounds a band at approximately 50,000 to 80,000 daltons molecular weight was found. The protein band constitutes a biomarker. The marker protein can be used either to raise protective antibodies to protect against the protease or may be used in a kit for identifying presence or absence of the marker in study of tissues taken from individuals who may have been exposed to mustard poisoning.

Luz D. Ortiz,
Army Federal Register Liaison Officer.

[FR Doc. 03-13596 Filed 5-30-03; 8:45 am]

BILLING CODE 3710-08-M